DEPARTMENT OF THE INTERIOR

Bureau of Land Management

[CA-160-1220-IU]

Notice of Emergency Closure of Public Lands in Tulare County, CA

SUMMARY: Notice is hereby given that approximately 560 acres of public lands have been temporarily closed to all public use. This closure is made under the authority of 43 CFR 8364.1 Closure and Restriction Orders. The closed area is in the vicinity of Kaweah, California in Tulare County and is within sections 13, 23, 24, and 26 T. 16S.R.28E. Mount Diablo Baseline and Meridian. All entry will be restricted during this emergency closure to protect persons, property, public lands, and natural resources. Closure signs will be posted at main entry points to this area. Gates and fencing will be installed to exclude vehicular entry and parking.

DATES: The emergency closure is effective May 24, 2007 and will remain in effect until the Bakersfield Field Office completes a revision to the current Resource Management Plan and an Activity Plan which will establish permanent rules for the public use of the property.

ADDRESSES: Maps of the closure area may be obtained from the Bakersfield Field Office, 3801 Pegasus Drive, Bakersfield, California 93308. Phone (661) 391-6000.

FOR FURTHER INFORMATION CONTACT: Diane Simpson (661) 391-6120 or Steve Larson (661) 391-6099.

SUPPLEMENTARY INFORMATION: The approximately 560 acres of public land known locally as the Paradise, Advance and Cherry Falls Recreation Sites along North Fork Drive receive a significant amount of public use during the summer months. The existing infrastructure including: the access road; parking areas; and sanitation facilities are inadequate to accommodate the large numbers of visitors thus creating unsafe and unsanitary conditions.

The closure is necessary to protect visitors to public lands and public lands and facilities. Overcrowding at these sites creates a dangerous situation and visitors could be trapped if a wildfire started and rapid evacuation was necessary.

Exemptions: Persons who are exempt from this emergency closure include: Federal, State, or local officials or employees in the scope of their duties; and members of any organized rescue or fire-fighting force in performance of an official duty.

Penalties: Any person who fails to comply with the provisions of this closure order may be subject to the penalties provided in 43 CFR 8360.0-7, which include a fine not to exceed $1,000 and/or imprisonment not to exceed 12 months.

Patricia Gradek,
Acting Bakersfield Field Manager.

[FR Doc. E7-16334 Filed 8-17-07; 8:45 am]

BILLING CODE 4310-40-P